DEPARTMENT OF AGRICULTURE

Submission for OMB Review; Comment Request

January 24, 2002.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Washington, DC 20503 and to Department Clearance Office, USDA, OCIO, Mail Stop 7602, Washington, DC 20250-7602. Comments regarding these information collections are best assured of having their full effect if received within 30 days of this notification. Copies of the submission(s) may be obtained by calling (202) 720-6746.

An agency may not conduct or sponsor a collection of information unless the collection of information displays a currently valid OMB control number and the agency informs potential persons who are to respond to the collection of information that such persons are not required to respond to the collection of information unless it displays a currently valid OMB control number.

National Agricultural Statistics Service

Title: Livestock Survey.

OMB Control Number: 0535-0005.

Summary of Collection: The primary function of the National Agricultural Statistics Service (NASS) is to prepare and issue current official State and national estimates of crop and livestock production. General authority for data collection activities is granted under U.S. Code Title 7, Section 2204. This statute specifies that the “The Secretary of Agriculture shall procure and preserve all information concerning agriculture which he can obtain * * * by the collection of statistics * * * and shall distribute them among agriculturists”. The Livestock survey is conducted annually to estimate livestock totals at State and county levels. Information from federally and non-federally inspected slaughter plants are used to estimate total red meat production.

Need and Use of the Information: NASS will use a survey to collect information on the number of head slaughtered plus live and dressed weights of beef, veal, pork, lamb, mutton, goats, and equine. Accurate and timely livestock estimates provide USDA and the livestock industry with basic date to project future meat supplies and producer prices. Agricultural economists in both the public and private sectors use this information in economic analyses and research.

Description of Respondents: Business or other for-profit; Farms.

Number of Respondents: 58, 127.

Frequency of Respondents: Reporting: Weekly; Monthly; Annually.

Total Burden Hours: 19,248.

National Agricultural Statistics Service

Title: Mink.

OMB Control Number: 0535-0212.

Summary of Collection: The primary function of the National Agricultural Statistics Service (NASS) is to prepare and issue current official State and national estimates of crop and livestock production. Statistics on mink production are published for the 15 major states that account for 95 percent of the U.S. production. There is no other source for this type of information. General authority for these data collection activities is granted under U.S. Code Title 7, Section 2204.

Need and Use of the Information: NASS collects information on mink pelts produced by color, number of females bred to produce kits the following year, number of mink farms, average marketing price, and the value of pelts produced. The data is disseminated by NASS in the Mink Report and is used by the U.S. Government and other groups.

Description of Respondents: Farms.

Number of Respondents: 370.

Frequency of Responses: Reporting: Annually.

Total Burden Hours: 51.

Foreign Agricultural Service

Title: Specialty Sugar Certificates.

OMB Control Number: 0551-0025.

Summary of Collection: Provisions associated with Presidential Proclamation No. 4941 prevented the importation of certain refined sugars used for specialized purposes originating in countries that did not have quota allocations. This led the Secretary of Agriculture to announce a quota system requiring certificates for entering specialty sugar. In order to grant licenses, ensure that imported specialty sugar does not disrupt the current domestic support program, and maintain administrative control over the program, an application with certain specific information must be collected from those who wish to participate in the program established by the regulation. Accordingly, applicants must supply information in 15 CFR 2011.205 to be considered eligible for a certificate.

Need and Use of the Information: Importers are required to supply specific information to the Secretary and the Foreign Agricultural Service, in order to be granted a certificate to import specialty sugar. The information is supplied to U.S. Customs officials in order to certify that the sugar being imported is “specialty sugar.” Without the collection of this information the Certifying Authority would not have any basis on which to make a decision on whether a certificate should be granted, and would not have the ability to monitor sugar imports under this program.

Description of Respondents: Business or other for-profits; Individuals or households.

Number of Respondents: 20.

Frequency of Responses: Reporting: Annually.

Total Burden Hours: 40.

Farm Service Agency

Title: 7 CFR Part 1427-Regulations Governing CCC Nonrecourse Cotton Loan Programs for 1996 and Subsequent Crops.

OMB Control Number: 0560-0074.

Summary of Collection: Nonrecourse marketing assistance loans for upland and extra long staple (ELS) cotton are authorized by sections 113 through 134 of the Federal Agriculture Improvement and Reform Act of 1996 (the 1996 Act) and the Commodity Credit Corporation (CCC) Charter Act. The loans are implemented by the Farm Service Agency (FSA) under regulations at 7 CFR 1427.1 through 1427.26. Nonrecourse loans for upland cotton may be repaid at a reduced rate, but such loans for ELS cotton are repayable at principal plus interest. Producers requesting CCC cotton loans must provide information to verify eligiblity of themselves and the cotton being offered as loan collateral. FSA will collect information using several forms.

Need and Use of the Information: FSA will collect information to determine loan quantities and principal amounts to administer the program and verify commodity and producer eligibility. Without the information from the producer, CCC could not carry out the statutory loan provisions.

Description of Respondents: Individuals or households; Business or other for-profit.

Number of Respondents: 96,122.

Frequency of Responses: Reporting: On occasion.

Total Burden Hours: 45,246.

Farm Service Agency

Title: Certification of Livestock Losses for Eligible Disaster.

OMB Control Number: 0560-0179.

Summary of Collection: Under Public Law 106-387, Sec. 813 states “The Secretary shall use up to $10,000,000 of the funds of the Commodity Credit Corporation to make livestock indemnity payment to producers on a farm that have incurred livestock losses during calendar year 2000 due to a disaster, as determined by the Secretary, including losses due to fires and anthrax. Over the past several years, Congress has provided ad hoc funding under several appropriation bills to partially compensate producers who lost livestock because of natural diasters. Producers requesting compensation on CCC-661, Certificate of Livestock Losses for Eligible Disaster, must provide documentation to the Farm Service Agency (FSA) that shows the number and type of livestock lost in the disaster.

Need and Use of the Information: FSA will collect information to determine eligibility and the amount of compensation. Without obtaining the information from the producers, FSA could not carry out the statutory provisions and ensure that funds are being provided to eligible producers.

Description of Respondents: Farms.

Number of Respondents: 2,000.

Frequency of Responses: Reporting: On occasion.

Total Burden Hours: 5,000.

Risk Management Agency

Title: Specialty Crop Producers Survey.

OMB Control Number: 0563-NEW.

Summary of Collection: The Agricultural Risk Protection Act (ARPA) of 2000 requires the Risk Management Agency (RMA) to increase the availability of risk management tools with a priority given to producers of specialty crops. Specialty crops are generally defined as agricultural crops, except wheat, feed grains, oilseeds, cotton, rice, peanuts, and tobacco. Specialty crops include everything from the common fruits and vegetables to mushrooms and maple syrup. The first step in the development of appropriate risk management tools for specialty crop producers is obtaining information that will identify risk structures specific to specialty crop farmers and to specialty crop categories. The survey will identify the potential market for specialty crop insurance, and provide the data necessary to evaluate the options for new insurance programs for specialty crops.

Need and Use of the Information: RMA will collect information to determine how a crop insurance program may be designed or adapted to meet the needs of specialty crop producers. The survey will enable the research partnership of RMA and the universities to develop a risk management profile of specialty crop producers. If the survey were not conducted, the development of risk management programs for specialty crop producers would be compromised.

Description of Respondents: Farms.

Number of Respondents: 69,700.

Frequency of Responses: Reporting: Other (one-time).

Total Burden Hours: 32,526.

Rural Business-Cooperative Service

Title: 7 CFR 4279-B, Guaranteed Loan Making—Business and Industry Loans.

OMB Control Number: 0570-0017.

Summary of Collection: The Business and Industry (B&I) program was legislated in 1972 under section 310B of the Consolidated Farm and Rural Development Act, as amended. The purpose of the program is to improve, develop, and finance businesses, industries, and employment and improve the economic and environmental climate in rural communities. This purpose is achieved through bolstering the existing private credit structure through the guaranteeing of quality loans made by lending institutions, thereby providing lasting community benefits. The B&I program is administered by the Rural Business-Cooperative Service (RBS) through Rural Development State and sub-State offices serving each State. RBS will collect information using forms RD 4279-1, 4279-2, 4279-3, 4279-4 and 4279-6.

Need and Use of the Information: RBS will collect information to determine lender and borrower eligibility and creditworthiness. The information is used by RBS loan officers and approval officials to determine program eligibility and for program monitoring.

Description of Respondents: Business or other for-profit; State, Local or Tribal Government.

Number of Respondents: 8, 875.

Frequency of Responses: Reporting: On occasion.

Total Burden Hours: 20,813.

Rural Business-Cooperative Service

Title Annual Survey of Cooperative Involvement in International Markets.

OMB Control Number: 0570-0020.

Summary of Collection: The Cooperative Marketing Act of 1926, 7 U.S.C. 453(b)(5), authorizes the Rural Business-Cooperative Services (RBS) to acquire from all available sources, information concerning crop prospects, supply, demand, current receipts, exports, imports, and prices of agricultural products handled or marketed by cooperative associations, and to employ qualified commodity marketing specialists to summarize and analyze this information and disseminate the same among cooperative associations, and others.'' The mission of the Cooperative Services Program of RBS is to assist farmer-owned cooperatives in improving the economic well being of their farmer-members. The facilitate the program's mission and activities as authorized by the Cooperative Marketing Act of 1926, RBS collects, maintains, and analyzes data pertaining to farmer cooperatives. Information is collected through an annual survey mailed to all cooperatives.

Needs and Use of the Information: The information collected by RBS will be used to comply with the agency's mission to acquire and report such information. In addition to monitoring and reporting the progress of cooperatives in global markets, RBS will use the data in economic/market research and will also produce educational materials about cooperatives.

Description of Respondents: Business or other for-profit.

Number of Respondents: 127.

Frequency of Responses: Reporting: Annually.

Total Burden Hours. 127.

Rural Utilities Service

Title: RUS Electric Loan Application and Related Reporting Burdens.

OMB Control Number 0572-0032.

Summary of Collection: The Rural Utilities Service (RUS) was established in 1994 by the Federal Crop Insurance Reform and Department of Agriculture Reorganization Act of 1994 (Public Law 103-354, 108 Stat. 3178, 7 U.S.C. et seq.) As successor to the Rural Electrification Administration (REA), RUS is responsible for administering the electric loan and loan guarantee programs authorized under the Rural Electrification Act (RE Act of 1936). The Administrator of RUS is authorized to make and guarantee loans to furnish and improve electric service in rural areas. These loans are amortized over a period of up to 35 years and secured by the borrower's electric assets. RUS will collect information including studies and reports to support borrower loan applications.

Need and Use of the Information: RUS will collect information to determine the eligibility of applicants for loans and loan guarantees under the RE Act; monitor the compliance of borrowers with debt covenants and regulatory requirements in order to protect loan security; ensure that borrowers use loan funds for purposes consistent with the statutory goals of the RE Act; and obtain information on the progress of rural electrification and evaluate the success of RUS program activities.

Description of Respondents: Not-for-profit institutions; Business or other for-profit; State, Local or Tribal Government.

Number of Respondents: 680.

Frequency of Responses: Reporting: On occasion; Annually.

Total Burden Hours: 65,673.

Natural Resources Conservation Service

Title: Risk Protection Programs.

OMB Control Number: 0578-0028.

Summary of Collection: The primary objective of the Natural Resources Conservation Service (NRCS) is to work in partnership with the American people to conserve and sustain our natural resources. The purpose of the Risk Protection Program is to provide NRCS program participants a method for making application for participation in the Agricultural Management Assistance and Soil and Water Conservation Assistance Program. The Risk Protection Program is authorized under the Agricultural Risk Protection Act of 2000, Public Law 106-224, sections 133(b) and 211(b). NRCS is responsible for the administration of various conservation programs. Assistance is provided to land users to voluntarily develop plans and apply conservation treatments for those programs. NRCS will collect information using forms CCC-1200, Conservation Program Contract and CCC-1245, Practice Approval and Payment Application.

Need and Use of the Information: NRCS will collect information to authorize the responsible federal official to make federal cost-share payments to the land user, or third party, upon successful application of the long-term conservation treatment. Without the information, funds appropriated by Congress could not be obligated or dispensed without the supporting information on either the Conservation Program Contract or the Practice Approval and Payment Authorization forms.

Description of Respondents: Farms; Individuals or households; Not-for-profit institutions; State, Local or Tribal Government.

Number of Respondents: 5,000.

Frequency of Responses: Reporting: Annually; Other (as required for assistance).

Total Burden Hours: 2,917.

Animal and Plant Health Inspection Service

Title: Certificate of Poultry and Hatching Eggs for Export.

OMB Control Number: 0579-0048.

Summary of Collection: Certificate for Poultry and Hatching Eggs for Export is authorized by 21 U.S.C. 112 and 113. The regulation that implements this law is found in part 91 of Title 9, Code of Federal Regulations. The export of agricultural commodities, including poultry and hatching eggs, is a major business in the United States and contributes to a favorable balance of trade. As part of its mission to facilitate the export of U.S. poultry and poultry products, the U.S. Department of Agriculture (USDA), Animal and Plant Health Inspection Service (APHIS), Veterinary Services, maintains information regarding the import health requirements of other countries for poultry and hatching eggs exported from the U.S. Most countries require a certification that our poultry and hatching eggs are disease free. APHIS will collect information on the quantity and type of poultry and hatching eggs designated for export, using form 17-6, Certificate for Poultry and Hatching Eggs for Export.

Need and Use of the Information: The information collected prevents unhealthy poultry or disease-carrying hatching eggs from being exported from the United States, thereby preventing the international dissemination of poultry diseases. The collection of information also is necessary to satisfy the import requirements of the receiving countries, thereby protecting and encouraging trade with the United States.

Description of Respondents: Farms; Federal Government;State, Local or Tribal Government;Individuals or households; Business or other for-profit.

Number of Respondents: 300.

Frequency of Responses: Reporting: On occasion.

Total Burden Hours: 10,500.

Animal and Plant Health Inspection Service

Title: 9 CFR 85 Psuedorabies.

OMB Control Number: 0579-0070.

Summary of Collection: The Animal and Plant Health Inspection Service (APHIS), on behalf of the Secretary of Agriculture, is charged with taking actions deemed necessary to prevent the introduction or dissemination of any contagious infections or communicable disease of animals or poultry from one State or Territory of the United States to another. APHIS implements regulations that control and stop the escalating spread of psuedorabies, which is a herpes virus disease that affects many species of animal, but primarily swine. Regulating the interstate movement of swine requires the use of certain information gathering activities such as permits, certificates, and owner-shipper statements to ascertain the health status of the swine.

Need and Use of the Information: The information collected is used by APHIS to monitor the health status of swine being moved, the number of swine being moved in a particular shipment, the shipment's point of origin, the shipment's destination, and the reason for the interstate movement. This information also provides APHIS officials with critical information concerning a shipment's history, which in turn enables APHIS to engage in swift, successful trace back investigations when infected swine are discovered.

Description of Respondents: Farms; Federal Government; State, Local or Tribal Government.

Number of Respondents: 30,050.

Frequency of Responses: Recordkeeping; Reporting: On occasion; Quarterly.

Total Burden Hours: 5,092.

Food and Nutrition Service

Title: Child Nutrition Database.

OMB Control Number: 0584-0494.

Summary of Collection: The Child Nutrition (CN) Database is a necessary component in implementation of USDA's Food and Nutrition Service (FNS) National School Lunch Program (NSLP) and School Breakfast Program (SBP): School Meals Initiative for Healthy Children final rule published in the June 13, 1995 Federal Register, Volume 60, No. 113. The overriding purpose in NSLP and SBP initiatives is to serve more nutritious and healthful meals to school children. FNS has updated the regulations which established the specific nutrition criteria for reimbursable school meals incorporating the Recommended Dietary Allowances (RDA) issued by the Food and Nutrition Board, Commission on Life Sciences, National Research Council for key nutrients, energy allowances for calories, and the most current nutritional standards as outlined in the Dietary Guidelines. FNS will collect information using a database that contains information on the nutritional composition.

Need and Use of the Information: FNS will collect information on (1) USDA commodities; (2) USDA Nutrient Database for Standard Reference food items which are used in the SBP and NSLP; (3) quantity recipes for school food service developed by USDA; and (4) brand name commercially processed foods. The information gathered for the CN Database is required to be used in software program approved by USDA for use in meeting the nutrient standards and nutrition goals of the Child Nutrition Program meal pattern. Both the States and program will use the information.

Description of Respondents: Business or other for-profit.

Number of Respondents: 75.

Frequency of Responses: Report: Other (as needed).

Total Burden Hours: 2500.

Grain Inspection, Packers and Stockyards Administration

Title: Guidelines for Preparation of Research Proposals.

OMB Control Number: 0580-0014.

Summary of Collection: The Grain Inspection, Packers and Stockyards Administration (GIPSA) is responsible for establishment of grain standards which accurately describe the quality of grain being traded and for the uniform application of these standards in a nationwide inspection system. GIPSA maintains an external research program under which research scientists are invited to submit research grant proposals aimed at developing methods to improve accuracy and uniformity in grading grain. Research grant proposals must include the objectives of the proposed work; application of the proposed work to the grain inspection system; the procedures, equipment, personnel, etc., that will be used to reach the project objectives; the costs of the project, a schedule for completion; qualifications of the investigator and the grantee organization; and a listing of all other sources of financial support for the project. Grant proposals may be submitted to GIPSA at anytime; however, a formal Research Coordination Team reviews the proposals twice a year.

Need and Use of the Information: The information collected is used by GIPSA to determine the projects that would address the highest priority problems. The information is also critical for ensuring that the proposed projects are technically feasible and that the sponsoring organizations have the resources to support the project including personnel with the appropriate technical capabilities.

Description of Respondents: State, Local or Tribal Government; Business or other for-profit; Not-for-profit institutions.

Number of Respondents: 4.

Frequency of Responses: Reporting: On occasion.

Total Burden Hours: 80.

Sondra A. Blakey,
Department Information Collection Clearance Officer.

[FR Doc. 02-2182 Filed 1-29-02; 8:45 am]

BILLING CODE 3410-01-M